DEPARTMENT OF COMMERCE

National Oceanic and Atmospheric Administration

[I.D. 060203C]

New England Fishery Management Council; Public Meetings

AGENCY: National Marine Fisheries Service (NMFS), National Oceanic and Atmospheric Administration (NOAA), Commerce

ACTION: Notice of public meeting.

SUMMARY: The New England Fishery Management Council (Council) is scheduling a public meeting of its Social Science Advisory Committee (SSAC) in June, 2003. Recommendations from the committee will be brought to the full Council for formal consideration and action, if appropriate.

DATES: The meeting will held on Monday, June 23, 2003 at 10:00 a.m.

ADDRESSES: The meeting will be held at the Sheraton Four Points Hotel, One Mack Road, Woburn, MA 01801; telephone: (781) 935-8160.

Council address: New England Fishery Management Council, 50 Water Street, Newburyport, MA 01950.

FOR FURTHER INFORMATION CONTACT: Paul J. Howard, Executive Director, New England Fishery Management Council; telephone: (978) 465-0492.

SUPPLEMENTARY INFORMATION: The SSAC will meet to review and comment on the methods proposed for analyzing social and economic impacts of management measures of Monkfish Amendment 2. The Council's Monkfish Plan Development Team will consider the SSAC's guidance in developing the analysis of management alternatives.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: June 2, 2003.
Richard W. Surdi,
Acting Director, Office of Sustainable Fisheries, National Marine Fisheries Service.

[FR Doc. 03-14475 Filed 6-6-03; 8:45 am]

BILLING CODE 3510-22-S